DEPARTMENT OF DEFENSE

GENERAL SERVICES ADMINISTRATION

NATIONAL AERONAUTICS AND SPACE ADMINISTRATION

48 CFR Part 52

[FAC 2005-56; FAR Case 2011-030; Item VI; Docket 2011-0030, Sequence 1]

RIN 9000-AM16

Federal Acquisition Regulation; New Designated Country (Armenia) and Other Trade Agreements Updates

Correction

In rule document 2012-4495 appearing on pages 12935 through 12937 in the issue of Friday, March 2 2012, make the following correction. On page 12936, Part 52—Solicitation Provisions and Contract Clauses, is reprinted in its entirety due to numerous errors. It should appear as follows:

PART 52—SOLICITATION PROVISIONS AND CONTRACT CLAUSES

5. Amend section 52.212-5 by revising the date of the clause, and paragraphs (b)(27) and (b)(41) to read as follows:

52.212-5 Contract Terms and Conditions Required To Implement Statutes or Executive Orders—Commercial Items.

* * * * *

Contract Terms and Conditions Required To Implement Statutes or Executive Orders—Commercial Items (MAR 2012)

* * * * *

(b) * * *

_ (27) 52.222-19, Child Labor—Cooperation with Authorities and Remedies (MAR 2012) (E.O. 13126).

* * * * *

_ (41) 52.225-5, Trade Agreements (MAR 2012) (19 U.S.C. 2501, et seq., 19 U.S.C. 3301 note).

* * * * *

6. Amend section 52.213-4 by revising the date of the clause and paragraph (b)(1)(i) to read as follows:

52.213-4 Terms and Conditions—Simplified Acquisitions (Other Than Commercial Items).

* * * * *

Terms and Conditions—Simplified Acquisitions (Other Than Commercial Items) (MAR 2012)

* * * * *

(b) * * *

(1) * * *

(i) 52.222-19, Child Labor—Cooperation with Authorities and Remedies (MAR 2012) (E.O. 13126). (Applies to contracts for supplies exceeding the micro-purchase threshold.)

* * * * *

7. Amend section 52.222-19 by revising the date of the clause to read as set forth below; and removing from paragraph (a)(4) the word “Aruba,” and adding the words “Armenia, Aruba,” in its place.

52.222-19 Child Labor—Cooperation with Authorities and Remedies.

* * * * *

CHILD LABOR—COOPERATION WITH AUTHORITIES AND REMEDIES (MAR 2012)

* * * * *

8. Amend section 52.225-5 by revising the date of the clause to read as set forth below; and in paragraph (a) removing from paragraph (1) of the definition “Designated country” the word “Aruba,” and adding the words “Armenia, Aruba,” in its place.

52.225-5 Trade Agreements.

* * * * *

TRADE AGREEMENTS (MAR 2012)

* * * * *

9. Amend section 52.225-7 by revising the date of the provision, and the second sentence of paragraph (b) to read as follows:

52.225-7 Waiver of Buy American Act for Civil Aircraft and Related Articles.

* * * * *

Waiver of Buy American Act for Civil Aircraft and Related Articles (MAR 2012)

* * * * *

(b) * * * Those countries are Albania, Austria, Belgium, Bulgaria, Canada, Cyprus, Czech Republic, Denmark, Egypt, Estonia, Finland, France, Georgia, Germany, Greece, Hungary, Ireland, Italy, Japan, Latvia, Lithuania, Luxembourg, Macao China, Malta, the Netherlands, Norway, Poland, Portugal, Romania, Slovakia, Slovenia, Spain, Sweden, Switzerland, Taiwan (Chinese Taipei), and the United Kingdom.

* * * * *

10. Amend section 52.225-11 by revising the date of the clause to read as set forth below; and in paragraph (a) removing from paragraph (1) of the definition “Designated country” the word “Aruba,” and adding the words “Armenia, Aruba,” in its place.

52.225-11 Buy American Act—Construction Materials Under Trade Agreements.

* * * * *

BUY AMERICAN ACT—CONSTRUCTION MATERIALS UNDER TRADE AGREEMENTS (MAR 2012) * * *

11. Amend section 52.225-23 by revising the date of the clause to read as set forth below; and in paragraph (a) removing from paragraph (1) of the definition “Designated country” and paragraph (1) of the definition “Recovery Act designated country” the word “(Aruba,” and adding the words “(Armenia, Aruba,” in its place.

52.225-23 Required Use of American Iron, Steel, and Manufactured Goods—Buy American Act—Construction Materials Under Trade Agreements.

* * * * *

REQUIRED USE OF AMERICAN IRON, STEEL, AND MANUFACTURED GOODS—BUY AMERICAN ACT—CONSTRUCTION MATERIALS UNDER TRADE AGREEMENTS (MAR 2012)

* * * * *

[FR Doc. C2-2012-4495 Filed 3-23-12; 8:45 am]

BILLING CODE 1505-01-D